DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda, time, and location for the February 7-9, 2018 meeting of the National Advisory Committee on Institutional Quality and Integrity (NACIQI), and provides information to members of the public regarding the meeting, including requesting to make oral comments. The notice of this meeting is required under the Federal Advisory Committee Act (FACA) and the Higher Education Act (HEA) of 1965, as amended.

DATES: The NACIQI meeting will be held on February 7, 8, and 9, 2018, each day from 8:30 a.m. to 5:30 p.m.

ADDRESSES: Washington Plaza Hotel, 10 Thomas Circle NW, National Ballroom, Washington, DC 20005.

FOR FURTHER INFORMATION CONTACT: Jennifer Hong, Executive Director/Designated Federal Official, NACIQI, U.S. Department of Education, 400 Maryland Avenue SW, Room 6W250, Washington, DC 20202, telephone: (202) 453-7805, or email: Jennifer.Hong@ed.gov.

SUPPLEMENTARY INFORMATION:

NACIQI's Statutory Authority and Function: NACIQI is established under § 114 of the HEA. NACIQI advises the Secretary of Education with respect to:

• The establishment and enforcement of the standards of accrediting agencies or associations under subpart 2, part G, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda: Agenda items for the February 2018 meeting are below.

Agencies Applying for Renewal of Recognition

1. Accreditation Commission for Education in Nursing, Scope of Recognition: Accreditation of nursing education programs and schools, both postsecondary and higher degree, which offer a certificate, diploma, or a recognized professional degree including clinical doctorate, masters, baccalaureate, associate, diploma, and practical nursing programs in the United States and its territories, including those offered via distance education.

2. Accreditation Commission for Midwifery Education, Scope of Recognition: The accreditation and preaccreditation of basic certificate, basic graduate nurse-midwifery, direct entry midwifery, and pre-certification nurse-midwifery education programs, including those programs that offer distance education in the United States.

3. American Physical Therapy Association, Commission on Accreditation in Physical Therapy Education, Scope of Recognition: The accreditation and preaccreditation (“Candidate for Accreditation”) in the United States of physical therapist education programs leading to the first professional degree at the master's or doctoral level and physical therapist assistant education programs at the associate degree level and for its accreditation of such programs offered via distance education.

4. Middle States Commission on Higher Education, Scope of Recognition: The accreditation and preaccreditation (“Candidacy Status”) of institutions of higher education in Delaware, the District of Columbia, Maryland, New Jersey, New York, Pennsylvania, Puerto Rico, and the U.S. Virgin Islands, including distance and correspondence education programs offered at those institutions.

5. Higher Learning Commission, Scope of Recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education and correspondence education within these institutions. This recognition extends to the Institutional Actions Council jointly with the Board of Trustees of the Commission for decisions on cases for continued accreditation or reaffirmation, and continued candidacy, and to the Appeals Body jointly with the Board of Trustees of the Commission for decisions related to initial candidacy or accreditation or reaffirmation of accreditation.

6. New England Association of Schools and Colleges, Commission on Institutions of Higher Education, Scope of Recognition: The accreditation and pre-accreditation (“Candidacy Status”)of institutions of higher education in Connecticut, Maine, Massachusetts, New Hampshire, Rhode Island, and Vermont that award bachelor's, master's, and/or doctoral degrees and associate degree-granting institutions in those states that include degrees in liberal arts or general studies among their offerings, including the accreditation of programs offered via distance education within these institutions.

7. New York State Board of Regents, and the Commission of Education, Scope of Recognition: The accreditation of those degree-granting institutions of higher education in New York that designate the agency as their sole or primary nationally recognized accrediting agency for purposes of establishing eligibility to participate in HEA programs including accreditation of programs offered via distance education within these institutions.

8. Western Association of Schools and Colleges, Senior Colleges and Universities, Scope of Recognition: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.

Application for Compliance Report

1. American Board of Funeral Service Education, Committee on Accreditation, Compliance report includes the following: Findings identified in the March 10, 2016 letter from the senior Department official following the December 2015 NACIQI meeting available at: https://opeweb.ed.gov/aslweb/finalstaffreports.cfm. That letter identifies the following Criteria as areas of noncompliance: 34 CFR 602.15(a)(6), 602.20(b), and 602.24(f)(2). Scope of recognition: The accreditation of institutions and programs within the United States awarding diplomas, associate degrees and bachelor's degrees in funeral service or mortuary science, including the accreditation of distance learning courses and programs offered by these programs and institutions.

2. Midwifery Education Accreditation Council, Compliance report includes the following: Findings identified in the March 10, 2016 letter from the senior Department official following the December 2015 NACIQI meeting available at: https://opeweb.ed.gov/aslweb/finalstaffreports.cfm. That letter identifies the following Criteria as areas of noncompliance: 34 CFR 602.19(b), 602.20(a), and 602.20(b). Scope of recognition: The accreditation and pre-accreditation throughout the United States of direct-entry midwifery educational institutions and programs conferring degrees and certificates, including the accreditation of such programs offered via distance education.

3. Montessori Accreditation Council for Teacher Education, Compliance report includes the following: Findings identified in the March 10, 2016 letter from the senior Department official following the December 2015 NACIQI meeting available at: https://opeweb.ed.gov/aslweb/finalstaffreports.cfm. That letter identifies the following Criteria as areas of noncompliance: 34 CFR 602.17(f), 602.19(b), and 602.20(b). Scope of recognition: The accreditation of Montessori teacher education institutions and programs throughout the United States, including those offered via distance education.

Applications for Renewal of Recognition—State Approval Agency for Nurse Education

North Dakota Board of Nursing.

Compliance Report—State Approval Agency for Nurse Education

New York State Board of Regents, State Education Department, Office of the Professions, Nursing Education Compliance report includes the following: Finding identified in the March 10, 2016 letter from the senior Department official following the December 2015 NACIQI meeting available at: https://opeweb.ed.gov/aslweb/finalstaffreports.cfm. That letter identifies the following Criterion as an area of noncompliance: 34 CFR 603.24(d).

Compliance Report—State Agency for the Approval of Public Postsecondary Vocational Education

Oklahoma Board of Career and Technology Education, Compliance report includes the following: Findings identified in the March 10, 2016 letter from the senior Department official following the December 2015 NACIQI meeting available at: https://opeweb.ed.gov/aslweb/finalstaff reports.cfm. That letter identifies the following Criteria as areas of noncompliance: 34 CFR 603.24(a)(1)(ii), 603.24(a)(3)(ii)(A), 603.24(b)(1)(iii), 603.24(b)(1)(iv), 603.24(b)(1)(v), 603.24(b)(1)(vi), 603.24(b)(1)(vii), 603.24(b)(2)(i), 603.24(b)(2)(ii), 603.24(b)(2)(iii), 603.24(d)(1), 603.24(d)(2). Scope of Recognition: The approval of public postsecondary vocational education offered at institutions in the State of Oklahoma that are not under the jurisdiction of the Oklahoma State Regents of Higher Education, including the approval of public postsecondary vocational education offered via distance education.

Panel on Student-Level Data Network

NACIQI will continue its discussion of the availability and accessibility of quality data to inform its review of accrediting agencies and its policy recommendations. NACIQI will hear from a panel of experts regarding key issues to consider toward a federal postsecondary student-level data network.

Subcommittee on Regulatory Reform

The Subcommittee on Regulatory Reform will report out on its activities and on any draft recommendations to the full Committee.

Meeting Discussion Regarding Individual Agencies

In addition to following the HEA, the FACA, implementing regulations, and the NACIQI charter, as well as its customary procedural protocols, NACIQI inquiries will include the questions and topics listed in the pilot plan it adopted at its December 2015 meeting. A document entitled “June 2016 Pilot Plan” and available at: http://sites.ed.gov/naciqi/files/naciqi-dir/2016-spring/pilot-project-march-2016.pdf, provides further explanation and context framing NACIQI's work. As noted in this document, NACIQI's reviews of accrediting agencies will include consideration of data and information available on the accreditation data dashboards, https://sites.ed.gov/naciqi/files/2017/09/Institutional-Performance-by-Accreditor-June-2017-Corrected.pdf. Accrediting agencies that will be reviewed for renewal of recognition will not be on the consent agenda and are advised to come prepared to answer questions related to the following:

• Decision activities of and data gathered by the agency.

○ NACIQI will inquire about the range of accreditation activities of the agency since its prior review for recognition, including discussion about the various favorable, monitoring, and adverse actions taken. Information about the primary standards cited for the monitoring and adverse actions that have been taken will be sought.

○ NACIQI will also inquire about what data the agency routinely gathers about the activities of the institutions it accredits and about how that data is used in their evaluative processes.

• Standards and practices with regard to student achievement.

○ How does the agency address “success with respect to student achievement” in the institutions it accredits?

○ Why was this strategy chosen? How is this appropriate in the agency's context?

○ What are the student achievement challenges in the institutions accredited by the agency?

○ What has changed/is likely to change in the standards about student achievement for the institutions accredited by the agency?

○ In what ways have student achievement results been used for monitoring or adverse actions?

• Agency activities in improving program/institutional quality.

○ How does this agency define “at risk?”

○ What tools does this agency use to evaluate “at risk” status?

○ What tools does this agency have to help “at risk” institutions improve?

○ What can the agency tell us about how well these tools for improvement have worked?

To the extent NACIQI's questions go to improvement of institutions and programs that are not at risk of falling into noncompliance with agency requirements, the responses will be used to inform NACIQI's general policy recommendations to the Department rather than its recommendations regarding recognition of any individual agency.

The discussions and issues described above are in addition to, rather than substituting for, exploration by Committee members of any topic relevant to recognition.

Submission of requests to make an oral comment regarding a specific accrediting agency or state approval agency under review, or an oral or written statement regarding other issues within the scope of NACIQI's authority: Opportunity to submit a written comment regarding a specific accrediting agency or state approval agency under review was provided by a previous Federal Register notice published on July 25, 2017 (82 FR 34511). The comment period for submission of such written comments closed on August 13, 2017. Additional written comments regarding a specific agency or state approval agency under review will not be accepted at this time. However, members of the public may submit written statements regarding other issues within the scope of NACIQI's authority for consideration by the Committee in the manner described below. No individual in attendance or making oral presentations may distribute written materials at the meeting. Oral comments may not exceed three minutes.

Oral comments about an agency's recognition after review of a compliance report must relate to issues identified in the compliance report and the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition based on a review of the agency's petition must relate to its compliance with the Criteria for the Recognition of Accrediting Agencies, or the Criteria and Procedures for Recognition of State Agencies for Approval of Nurse Education, as appropriate, which are available at: http://www.ed.gov/admins/finaid/accred/index.html. Written statements and oral comments, besides those regarding a specific accrediting agency under review, must be limited to the scope of NACIQI's authority as outlined under section 114 of the HEA.

There are two methods the public may use to request to make a third-party oral comment of three minutes at the February 7-9, 2018 meeting. To submit a written statement to NACIQI in accordance with the parameters stated above, please follow Method One.

Method One: Submit a request by email to the ThirdPartyComments@ed.gov mailbox. Please do not send material directly to NACIQI members. Requests must be received by January 26, 2018, and include the subject line “Oral Comment Request: (agency name),” “Oral Comment Request: (subject)” or “Written Statement: (subject).” The email must include the name(s), title, organization/affiliation, mailing address, email address, telephone number, of the person(s) submitting a written statement or requesting to speak, and a brief summary (not to exceed one page) of the principal points to be made during the oral presentation, if applicable. All individuals submitting a request in accordance with the deadlines and instructions contained in this notice will be afforded an opportunity to speak.

Method Two: Register at the meeting location on February 7, 2018, from 7:30 a.m.-8:30 a.m., to make an oral comment during NACIQI's deliberations. The requestor must provide the subject on which he or she wishes to comment, in addition to his or her name, title, organization/affiliation, mailing address, email address, and telephone number. A total of up to fifteen minutes for each agenda item will be allotted for oral commenters who register on February 7, 2018 by 8:30 a.m. Individuals will be selected on a first-come, first-served basis. If selected, each commenter may not exceed three minutes.

Access to Records of the Meeting: The Department will post the official report of the meeting on the NACIQI website within 90 days after the meeting. Pursuant to the FACA, the public may also inspect the materials at 400 Maryland Avenue SW, Washington, DC, by emailing aslrecordsmanager@ed.gov or by calling (202) 453-7110 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys . At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Kathleen A. Smith,
Senior Advisor to the Assistant Secretary, Delegated Authority of Assistant Secretary, Office of Postsecondary Education.

[FR Doc. 2017-28406 Filed 1-2-18; 8:45 am]

BILLING CODE 4000-01-P